DEPARTMENT OF THE INTERIOR

Bureau of Land Management

[CA-160-1220-00]

Extension of Nomination Period for Central California Resource Advisory Council

AGENCY: Bureau of Land Management, Interior.

ACTION: Notice of Resource Advisory Council Call for Nominations.

SUMMARY: The purpose of this notice is to extend the deadline for receiving nominations for membership on the Bureau of Land Management (BLM) Central California Resource Advisory Councils (RAC). The RAC provides advice and recommendations to BLM on land use planning and management of the public lands. Public nominations will be considered until May 21, 2000. The Federal Land Policy and Management Act (FLPMA) directs the Secretary of the Interior to involve the public in planning and issues related to management of lands administered by BLM. Section 309 of FLPMA directs the Secretary to select citizen-based advisory councils that are established and authorized consistent with the requirements of the Federal Advisory Committee Act (FACA). As required by the FACA, members appointed to the RAC must be balanced and representative of the various interests concerned with the management of the public lands. These include three categories:

Category One—Holders of federal grazing permits and representatives of energy and mineral development, timber industry, transportation or rights-of-way, off-highway vehicle use, and commercial recreation;

Category Two—Representatives of nationally or regionally recognized environmental organizations, archaeological and historic interests, dispersed recreation, and wild horse and burro groups;

Category Three—Holders of State, county or local elected office, employees of a State agency responsible for management of natural resources, academicians involved in natural sciences, representatives of Indian tribes, and the public-at-large.

Individuals may nominate themselves or others. Nominees must be residents of the State of California. Nominees will be evaluated based on their education, training, and experience and their knowledge of the geographical area of the RAC. Nominees should have demonstrated a commitment to collaborative resource decision making. All nominations must be accompanied by letters of reference from represented interests or organizations, a completed background information nomination form, as well as any other information that speaks to the nominee's qualifications.

There are four vacancies on the Central California RAC; one in Category One, one in Category Two, and two in Category Three. Nominations should be sent to: Larry Mercer, Bakersfield Field Office, BLM, 3801 Pegasus Avenue, Bakersfield, CA 93308, telephone: 661-391-6000.

Dated: May 2, 2000.
Ron Fellows,
Field Manager.

[FR Doc. 00-11966 Filed 5-11-00; 8:45 am]

BILLING CODE 4310-40-M